DEPARTMENT OF JUSTICE

[AAG/A Order No. 011-2006]

Privacy Act of 1974; System of Records

AGENCY: Executive Office for United States Attorneys, Department of Justice.

ACTION: Notice of modifications to system of records.

SUMMARY: Pursuant to the Privacy Act of 1974 (5 U.S.C. 552a) and Circular A-130 of the Office of Management and Budget (“OMB”), the Executive Office for United States Attorneys (“EOUSA”), Department of Justice (“DOJ”), proposes to update its system of records entitled JUSTICE/USA-015—“Debt Collection Enforcement System,” last substantively revised on November 12, 1993 (58 FR 60055)—to reflect subsequent legal and administrative developments.

DATES: These actions will be effective September 5, 2006.

FOR FURTHER INFORMATION CONTACT: For further information regarding this notice, and for general information on EOUSA's Privacy Act systems, contact Anthony J. Ciccone, Senior Attorney Advisor, Freedom of Information and Privacy Staff, Executive Office for United States Attorneys, at (202) 616-6757.

SUPPLEMENTARY INFORMATION: This notice updates JUSTICE/USA-015 to reflect debt collection enforcement developments since its 1993 publication. Among other things, this notice revises statutory references, effects miscellaneous nomenclature changes, and updates storage, safeguards, access, and related issues. This notice also adds certain routine uses to facilitate debt collection enforcement efforts by EOUSA, the United States Attorneys' Offices (“USAOs”), and other Departmental components, including their agents and investigators.

In accordance with 5 U.S.C. 552a(e)(4) and (11), the public is given a 30-day period in which to comment; and OMB, which has oversight responsibility of the Act, requires a 40-day period in which to conclude its review of the system. Therefore, please submit any comments by September 5, 2006. The public, OMB, and Congress are invited to submit comments to: Mary Cahill, Management and Planning Staff, Justice Management Division, Department of Justice, 1331 Pennsylvania Ave., NW., Washington, DC 20530 (1400 National Place Building). In accordance with 5 U.S.C. 552a(r), the Department has provided a report to OMB and Congress.

Dated: July 18, 2006.
Lee J. Lofthus,
Acting Assistant Attorney General for Administration.

JUSTICE/USA-015

System Name:

Debt Collection Enforcement System, JUSTICE/USA-015.

Security Classification:

Sensitive but unclassified.

System Location:

The Executive Office for United States Attorneys (“EOUSA”) in Washington, DC, the Network Operations Center (“NOC”) in Columbia, SC, and individual United States Attorneys' Offices (“USAOs”) and their agents in each of the 94 Federal judicial districts nationwide, depending upon where debt collection proceedings are pending. (Individual office addresses can be located on the Internet at http://www.usdoj.gov/usao.)

Categories of Individuals Covered By the System:

Individuals indebted to the United States who have either: (1) Allowed their debts to become delinquent and whose delinquent debts have been assigned to a USAO, or to private counsel retained by DOJ pursuant to contract (“contract private counsel”), for settlement or enforced collection through litigation; and/or (2) incurred debts assessed by a Federal court, e.g., fines or penalties in connection with civil or criminal proceedings.

Categories of Records in the System:

This system of records contains records relating to the negotiation, compromise, settlement, and litigation of debts owed the United States. Records consist of debt collection case files, as well as automated and/or hard-copy supporting data, as summarized below.

Case files include: evidence of indebtedness, judgment, or discharge; court filings such as legal briefs, pleadings, judgments, orders, and settlement agreements; litigation reports and related attorney work product; and agency status reports, memoranda, correspondence, and other documentation developed during the negotiation, compromise, settlement and/or litigation of debt collection activities.

Automated and/or hard-copy supporting data include information extracted from the case file and information generated or developed in support of Federal debt collection activities. Such information may include: Personal data (e.g., name, social security number, date of birth, taxpayer identification number, locator information, etc.); claim details (e.g., value and type of claim, such as benefit overpayment, loan default, bankruptcy, etc.); demand information, settlement negotiations, and compromise offered; account information (e.g., debtor's payments, including principal, penalties, interests, and balances, etc.); information regarding debtor's employment, ability to pay, property liens, etc.; data regarding debtor's loans or benefits from client agencies or other entities; information on the status and disposition of cases at various times; and any other information related to the negotiation, compromise, settlement, or litigation of debts owed the United States, or to the administrative management of debt collection efforts.

Authority For Maintenance of the System:

This system is established and maintained pursuant to the Debt Collection Act of 1982, Public Law 97-365, 96 Stat. 1749 (1982), as amended by the Debt Collection Improvement Act of 1996, Public Law 104-134, 110 Stat. 132 (1996) (codified at 31 U.S.C. 3701, et seq.); the Federal Debt Collection Procedure Act of 1990, Public Law 101-647, 104 Stat. 4933 (1990) (codified at 28 U.S.C. 3001, et seq.); the Cash Management Improvement Act of 1992, as amended by Public Law 102-589, 106 Stat. 5135 (1994); and related authority.

Purposes:

This system of records is maintained by EOUSA to cover records used by the USAOs, and/or contract private counsel, to perform legal services associated with the collection of debts due the United States—including related negotiation, settlement, litigation, and enforcement efforts—in accordance with the Debt Collection Act and related authority. More specifically, 31 U.S.C. 3711 authorizes the Attorney General to conduct litigation to collect delinquent debts due the United States. In addition, 31 U.S.C. 3718(b) authorizes the Attorney General to contract with private counsel to assist DOJ in collecting debts due the United States. The Attorney General is further authorized by 28 U.S.C. 3101 and 3201, et seq. (Chapter 176, “Federal Debt Collection Procedure”) to obtain both pre-judgment and post-judgment remedies against delinquent debtors. Moreover, under 28 U.S.C. 3201(a) and (e), a judgment against such a debtor creates a lien on all real property of the debtor, and renders that debtor ineligible for any grant or loan insured, financed, guaranteed, or made by the Federal Government.

Note: A separate but ancillary system of records—entitled “Debt Collection Management System, Justice/JMD-006”—is maintained by the Justice Management Division (“JMD”). System JMD-006 furnishes automated litigation and/or administrative support to USAOs and to contract private counsel to assist in Federal debt collection activities. In addition, the JMD-006 system maintains an inventory of debtor files in all 94 judicial districts, consisting of all debtors referred to DOJ for settlement and/or enforced collection through litigation. The inventory enables DOJ to provide statistical data to Congress and OMB on debt collection in accordance with 31 U.S.C. 3718(c).

Routine Uses Of Records Maintained In The System, Including Categories Of Users And The Purposes Of Such Uses:

1. Disclosures to Former Employees

Information may be disclosed to a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

2. Disclosures to Contractors and Other Personnel

Information may be disclosed to contractors, grantees, experts, consultants, students, and others performing or working on a contract, service, grant, cooperative agreement, or other assignment for the Federal Government, when necessary to accomplish an agency function related to this system of records, including but not limited to persons assigned to the Department's Nationwide Central Intake Facility (“NCIF”) and/or contract private counsel and their agents.

3. Disclosures Related to Offsets and Remedies

Information may be disclosed to the Internal Revenue Service (“IRS”), Department of Defense (“DOD”), United States Postal Service (“USPS”), and/or Department of Housing and Urban Development (“HUD”) in accordance with computer matching or data sharing programs to locate debtors eligible for Federal tax refunds, salaries, pensions, annuities, benefits, or other Federal payments against which offsets or other remedies would be appropriate. The debts and associated records of individuals so identified may be referred to the appropriate Federal agency for collection by administrative, salary, or other procedures to offset Federal payments.

4. Disclosures to Treasury Department

Information may be disclosed to the Department of the Treasury, including the IRS, pursuant to the Debt Collection Improvement Act and related authority for any purpose related to debt collection, including locating debtors for debt collection efforts and/or effecting offsets against monies payable to such debtors by the Federal Government.

5. Disclosures to Client Agencies

Information from this system may be disclosed to client agencies who have referred outstanding debts to DOJ for debt collection efforts, including settlement or litigation, to notify such agencies of case developments, the status of accounts receivable or payable, case-related decisions or determinations, or to make such other inquiries and reports related to debt collection efforts.

6. Disclosures to Disbursing/Offset Agencies

Information from this system may be disclosed to any Federal agency that employs and/or pays pension, annuity and/or other benefits to an individual who has been identified as a delinquent debtor for purposes of offsetting the individual's salary and/or pension, annuity or other benefit payment received from that agency, when DOJ is responsible for the enforced collection of a judgment or claim on behalf of the United States against that person.

7. Disclosures for Debt Verification and Collection Purposes

Information from this system may be disclosed to any Federal, State, local, or tribal agency, or to an individual or organization, if there is reason to believe that they possess information relating to the verification or collection of debts owed the Federal Government, and if the disclosure seeks to elicit information from such entities regarding: (a) The status of such debts, including settlement, litigation, or other collection efforts; (b) the identification or location of such debtors; or (c) the cooperation of witnesses, informants, or others possessing collection-related information.

8. Disclosures of Non-Tax Debts

In accordance with regulations issued by the Secretary of the Treasury to implement the Debt Collection Improvement Act of 1996, information from this system may be disclosed to publish or otherwise publicly disseminate the identity of debtors and/or the existence of non-tax debts, in order to direct actions under the law toward delinquent debtors that have assets or income sufficient to pay their delinquent non-tax debts, but only: upon taking reasonable steps to ensure the accuracy of the identity of a debtor; upon ensuring that such debtor has had an opportunity to verify, contest, and compromise a non-tax debt; and with the review of the Secretary of Treasury or designee.

9. Disclosures for Audit, Oversight, and Training

Information from this system may be disclosed to any individual or organization requiring such information for the purpose of performing audit, oversight, and training operations of DOJ and to meet related reporting requirements.

10. Disclosures to Law Enforcement and Regulatory Agencies

Where a record, either on its face or in conjunction with other information, indicates a violation or potential violation of law—criminal, civil, or regulatory in nature—the relevant records may be referred to the appropriate Federal, State, local, foreign, or tribal, law enforcement authority or other appropriate agency charged with the responsibility of investigating or prosecuting such a violation or enforcing or implementing such law.

11. Disclosures in Proceedings

Information from this system may be disclosed in an appropriate proceeding before a court, or administrative or adjudicative body, when DOJ determines that the records are arguably relevant to the proceeding; or in an appropriate proceeding before an administrative or adjudicative body when the adjudicator determines the records to be relevant to the proceeding.

12. Disclosures in Settlement/Plea Negotiations

Information from this system may be disclosed to an actual or potential party to litigation or the party's authorized representative for the purpose of negotiation or discussion of such matters as settlement, plea bargaining, or in informal discovery proceedings.

13. Disclosures Related to Federal Employment, Clearance, Contracts, and Grants

Information from this system may be disclosed to appropriate officials and employees of a Federal agency or entity which requires information relevant to a decision concerning the hiring, appointment, or retention of an employee; the issuance, renewal, suspension, or revocation of a security clearance; the execution of a security or suitability investigation; the letting of a contract, or the issuance of a grant or benefit.

14. Disclosures Related to State or Local Employment

Information from this system may be disclosed to designated officers and employees of state, local (including the District of Columbia), or tribal law enforcement or detention agencies in connection with the hiring or continued employment of an employee or contractor, where the employee or contractor would occupy or occupies a position of public trust as a law enforcement officer or detention officer having direct contact with the public or with prisoners or detainees, to the extent that the information is relevant and necessary to the recipient agency's decision.

15. Disclosures Related to Licenses and Permits

Information from this system may be disclosed to Federal, State, local, tribal, foreign, or international licensing agencies or entities which require information concerning the suitability or eligibility of an individual for a license or permit.

16. Disclosures to NARA

Information from this system may be disclosed to the National Archives and Records Administration (“NARA”) for purposes of records management inspections conducted under the authority of 44 U.S.C. 2904 and 2906.

17. Disclosures to News Media and Public

Information from this system may be disclosed to the news media and the public pursuant to 28 CFR 50.2, unless it is determined that release of the specific information in the context of a particular case would constitute an unwarranted invasion of personal privacy.

18. Disclosures to Members of Congress

Information from this system may be disclosed to a Member of Congress or staff acting upon the Member's behalf when the Member or staff requests the information on behalf of, and at the request of, the individual who is the subject of the record.

19. Disclosures Related to Health Care Fraud

Information from this system relating to health care fraud may be disclosed to private health plans, or associations of private health plans, and health insurers, or associations of health insurers, for the following purposes: To promote the coordination of efforts to prevent, detect, investigate, and prosecute health care fraud; to assist efforts by victims of health care fraud to obtain restitution; to enable private health plans to participate in local, regional, and national health care fraud task force activities; and to assist tribunals having jurisdiction over claims against private health plans.

20. Disclosures to Complainants and Victims

Information from this system may, in the agency's discretion, be disclosed to persons determined to be complainants and/or victims, to the extent deemed necessary to provide such persons with information concerning the progress and/or results of the investigation or case arising from the matters of which they complained and/or of which they were a victim.

Disclosure To Consumer Reporting Agencies:

Information from this system of records may be disclosed to a credit or consumer reporting agency, as such terms are used in the Fair Credit Reporting Act (15 U.S.C. 1681, et seq.) and the Debt Collection Act (31 U.S.C. 3701, et seq.), when such information is necessary or relevant to Federal debt collection efforts, including, but not limited to, obtaining a credit report on a debtor, payor, or other party-in-interest; reporting on debts due the Government; and/or pursuing the collection of such debts through settlement, negotiation, or litigation.

Policies and Practices for Storing, Retrieving, Accessing, Retaining, and Disposing of Records in the System:

Storage:

Certain records in this system are maintained in automated computer information systems and stored in electronic format for use or reproduction in report form at various times. Other records in this system are maintained in paper format located in file cabinets, safes, and similar storage containers.

Retrievability:

Data in this system of records may be retrieved by debtor names or personal identifiers, case numbers, computerized queries, and other keyword searches.

Safeguards:

Records contained in this system are unclassified. They are safeguarded and protected in accordance with DOJ rules and procedures governing the handling of office records and computerized information. Access to this system is restricted to those DOJ employees and contractors, including contract private counsel, who need access to perform official debt collection activities, including related administrative and support functions. During duty hours, access to this system is monitored and controlled by DOJ employees and contractors. During nonduty hours, records are maintained in locked facilities. Access to automated data requires the use of the proper password and user identification code. Access by contract private counsel is restricted to those cases assigned to them for debt collection efforts.

Retention and Disposal:

Records from this system are retained and disposed of in accordance with Part 3-13.310 of the United States Attorneys' Manual (“Comprehensive Retention Schedule”) published at http://www.usdoj.gov/usao/eousa/foia_reading_room/usam/title3/13musa.htm, and related authority.

System Manager(S) and Address:

The system managers for this system of records are located at the Executive Office for United States Attorneys in Washington, DC, the Network Operations Center in Columbia, SC, and individual United States Attorneys' Offices in the 94 Federal judicial districts nationwide, depending upon where debt collection proceedings are pending. (Individual office addresses can be located on the Internet at http://www.usdoj.gov/usao.)

Notification Procedure:

Address inquiries to the System Manager (see above) in the judicial district where debt collection efforts were initiated. For further information, see 28 CFR 16.40, et seq.

Record Access Procedure:

Requests for access must be in writing and should be addressed to the System Manager (see above) in the judicial district where debt collection efforts were initiated. The envelope and letter should be clearly marked “Privacy Act Request” and comply with 28 CFR 16.41 (“Requests for Access to Records”), et seq. Access requests must contain the requester's full name, current address, date and place of birth, and should include a clear description of the records sought and any other information that would help to locate the record (e.g., name of the case and Federal agency to whom the debtor is indebted). Access requests must be signed and dated and either notarized or submitted under penalty of perjury pursuant to 28 U.S.C. 1746.

Contesting Record Procedures:

Individuals desiring to contest or amend information maintained in the system should clearly and concisely state what information is being contested, the reasons for contesting it, and the proposed amendment to the information. Address such inquiries to the System Manager (see above) in the judicial district where debt collection efforts were initiated. The envelope and letter should be clearly marked “Privacy Act Request” and comply with 28 CFR 16.46 (“Request for Amendment or Correction of Records”), et seq.

Record Source Categories:

Sources of information contained in this system primarily consist of the individuals covered by the system; DOJ and/or agencies to whom the individual is indebted, seeks benefits, or has furnished information; attorneys or other representatives of debtor and/or payors; and Federal, State, local, tribal, foreign, or private organizations or individuals who may have information regarding the debt, the debtor's ability to pay, or any other information relevant or necessary to assist in debt collection efforts.

Exemptions Claimed for the System:

None.

[FR Doc. E6-11803 Filed 7-24-06; 8:45 am]

BILLING CODE 4410-07-P